NUCLEAR REGULATORY COMMISSION

Biweekly Notice; Applications and Amendments to Facility Operating Licenses Involving No Significant Hazards Considerations

I. Background

Pursuant to section 189a. (2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from July 31, 2008 to August 13, 2008. The last biweekly notice was published on August 12, 2008 (73 FR 46926).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D44, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated in August 28, 2007 (72 FR 49139). The E-Filing process requires participants to submit and serve documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville, Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp , unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Dominion Energy Kewaunee, Inc. Docket No. 50-305, Kewaunee Power Station (KPS), Kewaunee County, Wisconsin

Date of amendment request: July 7, 2008.

Description of amendment request: The proposed amendment would allow the use of a methodology to determine the seismic loads on the recently upgraded Auxiliary Building crane. The upgrade was to make the crane single-failure-proof through replacement of the crane trolley, and modification of the existing crane bridge. The proposed seismic analysis methodology has not been approved for use at KPS, and is thus not currently in the KPS Updated Safety Analysis Report. The proposed methodology recognizes the inherent propensity for structures not fixed to one another (e.g., steel wheels on steel rails) to roll if sufficient lateral force is applied. The licensee proposed this seismic analysis methodology for use solely on the Auxiliary Building crane upgrade. The licensee stated that recognition of wheel rolling between the crane trolley and bridge and their respective rails reflects the true nature of the installed equipment and its response to horizontal forces generated by a seismic event.

Basis for proposed no significant hazards consideration determination: As required by 10 CFR 50.91(a), the licensee has provided its analysis of the issue of no significant hazards consideration. The NRC staff reviewed the licensee's analysis and has prepared its own as follows:

(1) Does the proposed amendment involve a significant increase in the probability or consequences of an accident previously evaluated?

Response: No.

This proposed amendment pertains solely to a nonlinear seismic analysis method supporting the upgrade of the KPS Auxiliary Building crane from a non-single-failure-proof design to a single-failure proof design. Specifically, the existing crane trolley has been replaced with a state-of-the-art design that is single-failure-proof. The crane does not interface with operating plant equipment, and will continue to be able to withstand a design-basis seismic event without an uncontrolled lowering of the load. Thus, the probability and consequences of a load drop are not increased by the upgrade and proposed change in seismic analysis methodology. Therefore, the proposed amendment does not involve a significant increase in the probability or consequences of an accident previously evaluated.

(2) Does the proposed amendment create the possibility of a new or different kind of accident from any accident previously evaluated?

Response: No.

This proposed amendment pertains to an analysis method supporting the upgrade of an existing plant component. This seismic analysis methodology is proposed for use solely on the crane upgrade and not for any other plant structures, systems, or components. The design-rated load of the crane main hoist remains the same (i.e., 125 tons). This load bounds the design and supporting analysis. The auxiliary hook design rated load has been increased from 10 tons to 15 tons. The proposed amendment does not change the previously evaluated and currently acceptable heavy load handling practices in use at KPS. The number and types of lifts made using this crane in support of KPS plant operations will not significantly change from those contemplated during original plant licensing. Furthermore, the basic operations of the crane (i.e., hoisting and horizontal travel) will remain the same. Therefore, the proposed amendment does not create a new or different kind of accident from any previously evaluated.

(3) Does the proposed amendment involve a significant reduction in a margin of safety?

Response: No.

The purpose of the proposed methodology is to determine the design loads (forces and moments), accelerations, and displacements on the crane and building support structure. These loads will subsequently be used to perform the structural analysis of these components to confirm that the design meets all applicable acceptance criteria using previously approved industry codes and standards for such analyses. If the stresses computed in the structural components as a result of a seismic event are less than the limits contained in these codes, the structural integrity of the crane is maintained, and a suspended load will remain suspended during a seismic event. Meeting these code limits maintains an acceptable margin of safety for the individual components and the crane as a whole. Therefore, the proposed amendment does not involve a significant reduction in a margin of safety.

The NRC staff has reviewed the licensee's analysis and, based on its own analysis, proposes that the three standards of 10 CFR 50.92(c) are satisfied. Therefore, the NRC staff proposes to determine that the amendment request involves no significant hazards consideration.

Attorney for licensee: Lillian M. Cuoco, Senior Counsel, Dominion Resources Services, Inc., Counsel for Dominion Energy Kewaunee, Inc., 120 Tredegar Street, Richmond, VA 23219.

NRC Branch Chief: Lois M. James.

Dominion Energy Kewaunee, Inc. Docket No. 50-305, Kewaunee Power Station (KPS), Kewaunee County, Wisconsin

Date of amendment request: July 16, 2008.

Description of amendment request: The proposed amendment would align the Technical Specifications (TS) with the results of an evaluation performed according to Westinghouse Nuclear Safety Advisory Letter NSAL-07-7, “Short-Term Recriticality During a PWR [pressurized-water reactor] Large-Break LOCA [loss-of-coolant accident].” NSAL-07-7 advised that the potential exists for recriticality to occur during a large-break LOCA in the reflood stage after a LOCA. Westinghouse determined that Kewaunee is not susceptible to the subject issue based on the current KPS practice of maintaining safety injection (SI) accumulator boron concentration at or above 2500 ppm. However, to ensure that the KPS TS are conservative with respect to the results of NSAL-07-7, the licensee proposed to raise the minimum required boron concentration for the SI accumulators specified by the TS from the current 1900 parts-per-million (ppm) to 2400 ppm.

Basis for proposed no significant hazards consideration determination: As required by 10 CFR 50.91(a), the licensee has provided its analysis of the issue of no significant hazards consideration, which is reproduced below:

(1) Does the proposed amendment involve a significant increase in the probability or consequences of an accident previously evaluated?

Response: No.

Increasing the minimum required boron concentration in the SI accumulators does not add, delete, or modify any Kewaunee systems, structures, or components (SSCs). The SI accumulators and their contents are not accident initiators. Rather, they are designed for accident mitigation. The effects of an increase in the minimum SI accumulator boron concentration from 1900 ppm to 2400 ppm are bounded by previous evaluations and determined to be acceptable. Thus, the proposed increase in minimum SI accumulator boron concentration has no adverse effect on the ability of the plant to mitigate the effects of design[-]basis accidents.

Therefore, the proposed change does not involve a significant increase in the probability or consequences of an accident previously evaluated.

(2) Does the proposed amendment create the possibility of a new or different kind of accident from any accident previously evaluated?

Response: No.

Increasing the minimum required boron concentration in the SI accumulators does not change the design function of the SI accumulators or the SSCs designed to deliver borated water from the SI accumulators to the core. Increasing the minimum required boron concentration in the SI accumulators does not create any credible new failure mechanisms or malfunctions for plant equipment or the nuclear fuel. The reactivity control function of the borated water in the SI accumulators is not being changed.

Therefore, the proposed change does not create the possibility of a new or different kind of accident from any previously evaluated.

(3) Does the proposed amendment involve a significant reduction in a margin of safety?

Response: No.

An evaluation has been performed that shows that maintaining boron concentration at a minimum of 2400 ppm is sufficient to assure that acceptable results for design[-]basis accident analyses will be maintained considering the reactivity of the core. Increasing the minimum boron concentration in the Sl accumulator from 1900 ppm to a minimum of 2400 ppm increases the margin of safety in the Kewaunee safety analyses, since additional post-accident negative reactivity will be available to the core. This additional negative reactivity compensates for the potential for recriticality occurring during the short-term reflood period during the large[-]break loss-of-coolant accident. Additionally, the proposed new minimum boron concentration of 2400 ppm is within the range required by current safety analyses (i.e., 1900 ppm to 2625 ppm), and well below the currently acceptable maximum boron concentration of 2625 ppm.

The proposed amendment does not result in altering or exceeding a design basis or safety limit for the plant. All current fuel design criteria will continue to be satisfied, and the safety analysis of record, including evaluations of the radiological consequences of design[-]basis accidents, will remain applicable.

Therefore, the proposed change does not involve a significant reduction in a margin of safety.

The NRC staff has reviewed the licensee's analysis and determines that the three standards of 10 CFR 50.92(c) are satisfied. Therefore, the NRC staff proposes to determine that the amendment request involves no significant hazards consideration.

Attorney for licensee: Lillian M. Cuoco, Senior Counsel, Dominion Resources Services, Inc., Counsel for Dominion Energy Kewaunee, Inc., 120 Tredegar Street, Richmond, VA 23219.

NRC Branch Chief: Lois M. James.

Entergy Operations, Inc., System Energy Resources, Inc., South Mississippi Electric Power Association, and Entergy Mississippi, Inc., Docket No. 50-416, Grand Gulf Nuclear Station, Unit 1, Claiborne County, Mississippi

Date of amendment request: June 30, 2008.

Description of amendment request: The proposed amendment would: (1) Revise the Technical Specification (TS) surveillance requirement (SR 3.1.3.2) frequency in TS 3.1.3, “Control Rod OPERABILITY,” (2) clarify the requirement to fully insert all insertable control rods for the limiting condition for operation (LCO) in TS 3.3.1.2, Required Action E.2, “Source Range Monitoring Instrumentation,” and (3) revise Example 1.4-3 in Section 1.4 “Frequency” to clarify the applicability of the 1.25 surveillance test interval extension. The licensee is proposing to adopt the approved Technical Specification Task Force (TSTF) change traveler TSTF-475, Revision 1, “Control Rod Notch Testing Frequency.”

The NRC staff issued a “Notice of Availability of Model Application Concerning Technical Specification Improvement To Revise Control Rod Notch Surveillance Frequency, Clarify SRM Insert Control Rod Action, and Clarify Frequency Example” associated with TSTF-275, Revision 1, in the Federal Register on November 13, 2007 (72 FR 63935). The notice included a model safety evaluation, a model no significant hazards consideration (NSHC) determination and a model license amendment request, using the consolidated line item improvement process. In its application dated June 30, 2008, the licensee affirmed the applicability of the model NSHC determination which is presented below:

Basis for proposed NSHC determination: As required by 10 CFR 50.91(a), an analysis of the issue of NSHC determination is presented below:

Criterion 1—The Proposed Change Does Not Involve a Significant Increase in the Probability or Consequences of an Accident Previously Evaluated

The proposed change generically implements TSTF-475, Revision 1, “Control Rod Notch Testing Frequency and SRM Insert Control Rod Action.” TSTF-475, Revision 1 modifies NUREG-1433 (BWR/4) and NUREG-1434 (BWR/6) STS [(Standard Technical Specifications)]. The changes: (1) Revise TS testing frequency for surveillance requirement (SR) 3.1.3.2 in TS 3.1.3, “Control Rod OPERABILITY,” (2) clarify the requirement to fully insert all insertable control rods for the limiting condition for operation (LCO) in TS 3.3.1.2, Required Action E.2, “Source Range Monitoring Instrumentation” (NUREG-1434 only), and (3) revise Example 1.4-3 in Section 1.4 “Frequency” to clarify the applicability of the 1.25 surveillance test interval extension. The consequences [and probability] of an accident after adopting TSTF-475, Revision 1 are no different than the consequences [and probability] of an accident prior to adoption. Therefore, this change does not involve a significant increase in the probability or consequences of an accident previously evaluated.

Criterion 2—The Proposed Change Does Not Create the Possibility of a New or Different Kind of Accident From Any Accident Previously Evaluated

The proposed change does not involve a physical alteration of the plant (no new or different type of equipment will be installed) or a change in the methods governing normal plant operation. The proposed change will not introduce new failure modes or effects and will not, in the absence of other unrelated failures, lead to an accident whose consequences exceed the consequences of accidents previously analyzed. Thus, this change does not create the possibility of a new or different kind of accident from any accident.

Criterion 3—The Proposed Change Does Not Involve a Significant Reduction in the Margin of Safety

TSTF-475, Revision 1 will: (1) [revise the TS SR 3.1.3.2 frequency in TS 3.1.3, “Control Rod OPERABILITY,” (2) clarify the requirement to fully insert all insertable control rods for the limiting condition for operation (LCO) in TS 3.3.1.2, “Source Range Monitoring Instrumentation,” and (3)] revise Example 1.4-3 in Section 1.4 “Frequency” to clarify the applicability of the 1.25 surveillance test interval extension. [The GE Nuclear Energy Report, “CRD Notching Surveillance Testing for Limerick Generating Station,” dated November 2006, concludes that extending the control rod notch test interval from weekly to monthly is not expected to impact the reliability of the scram system and that the analysis supports the decision to change the surveillance frequency.] Therefore, the proposed changes in TSTF-475, Revision 1 [* * *] do not involve a significant reduction in a margin of safety.

The NRC staff has reviewed the analysis adopted by the licensee and, based on this review, it appears that the three standards of 10 CFR 50.92(c) are satisfied. Therefore, the NRC staff proposes to determine that the amendment request involves NSHC.

Attorney for licensee: Terence A. Burke, Associate General Counsel—Nuclear Entergy Services, Inc., 1340 Echelon Parkway, Jackson, Mississippi 39213.

NRC Acting Branch Chief: Mohan C. Thadani.

Exelon Generation Company, LLC, Docket Nos. STN 50-456 and STN 50-457, Braidwood Station, Units 1 and 2, Will County, Illinois

Docket Nos. STN 50-454 and STN 50-455, Byron Station, Unit Nos. 1 and 2, Ogle County, Illinois

Date of amendment request: June 26, 2008.

Description of amendment request: The proposed amendments would revise technical specification (TS) surveillance requirements (SRs) 3.8.1.7, 3.8.1.12, 3.8.1.15, and 3.8.1.20, to clarify the requirements for the start time test performed by these SRs. The current requirement is to have the diesel generator (DG) within the voltage and frequency limits less than or equal to 10 seconds after the start signal. The proposed change is to have the DG above the minimum voltage and frequency within 10 seconds and verified to be within the voltage and frequency limits at steady state conditions. The change is consistent with TS Task Force (TSTF) Standard TS Change Traveler, TSTF-163, “Minimum vs. Steady State Voltage and Frequency,” Revision 2.

Basis for proposed no significant hazards consideration determination: As required by 10 CFR 50.91(a), the licensee has provided its analysis of the issue of no significant hazards consideration, which is presented below:

1. Does the proposed change involve a significant increase in the probability or consequences of an accident previously evaluated?

Response: No.

The proposed change revises surveillance requirements to clarify what voltage and frequency limits are applicable during the transient and steady state portions of the DG start testing.

The revised requirements do not affect the function of the DGs. The DGs and their associated emergency loads are accident mitigating features whose failure modes could not act as accident initiators or precursors. The proposed change does not impact the physical configuration or function of plant structures, systems, or components (SSCs) or the manner in which SSCs are operated, maintained, modified, or inspected. The proposed change does not impact the initiators or assumptions of analyzed events, nor does it impact the mitigation of accidents or transient events.

The proposed change does not affect the design of the DGs, the operational characteristics of the DGs, the interfaces between the DGs and other plant systems, the function, or the reliability of the DGs. Thus, the DGs will be capable of performing their accident mitigation function and there is no impact to the radiological consequences of any accident analysis.

Therefore, the proposed change does not involve a significant increase in the probability or consequences of an accident previously evaluated.

2. Does the proposed change create the possibility of a new or different kind of accident from any accident previously evaluated?

Response: No.

The proposed change revises surveillance requirements to clarify what voltage and frequency limits are applicable during the transient and steady state portions of DG testing.

The function of the DGs is not altered by this change. The proposed change does not involve a modification to the physical configuration of the plant (i.e., no new equipment will be installed) or change in the methods governing normal plant operation. The proposed change will not introduce a new accident initiator, accident precursor, or malfunction mechanism.

Therefore, the proposed change does not create the possibility of a new or different kind of accident from any accident previously evaluated.

3. Does the proposed change involve a significant reduction in a margin of safety?

Response: No.

The proposed change revises surveillance requirements to clarify what voltage and frequency limits are applicable during the transient and steady state portions of DG testing.

The margin of safety is related to the confidence in the ability of the fission product barriers to perform their design functions during and following an accident situation. These barriers include the fuel cladding, the reactor coolant system, and the containment system. The proposed change does not directly affect these barriers, nor does it involve any adverse impact on the DGs which serve to support these barriers in the event of an accident concurrent with a loss of offsite power. The proposed change doesn't affect the DG's capabilities to provide emergency power to plant equipment that mitigate the consequences of the accident.

Therefore, the proposed change does not involve a significant reduction in a margin of safety.

The Nuclear Regulatory Commission (NRC) staff has reviewed the licensee's analysis and, based on this review, it appears that the three standards of 10 CFR 50.92(c) are satisfied. Therefore, the NRC staff proposes to determine that the amendment request involves no significant hazards consideration.

Attorney for licensee: Mr. Bradley J. Fewell, Associate General Counsel, Exelon Generation Company, LLC, 4300 Winfield Road, Warrenville, IL 60555.

NRC Branch Chief: Russell Gibbs.

FPL Energy Seabrook LLC, Docket No. 50-443, Seabrook Station, Unit No. 1, Rockingham County, New Hampshire

Date of amendment request: February 8, 2008.

Description of amendment request: The amendment proposes to change the Technical Specifications to delete Surveillance Requirement 4.6.3.1, which specifies post-maintenance testing requirements for containment isolation valves (CIVs).

Basis for proposed no significant hazards consideration determination: As required by 10 CFR 50.91(a), the licensee has provided its analysis of the issue of no significant hazards consideration, which is presented below:

1. The proposed changes do not involve a significant increase in the probability or consequences of an accident previously evaluated.

The proposed amendment to the technical specifications, which is consistent with NUREG-1431, “Standard Technical Specifications, Westinghouse Plants,” removes the surveillance requirement related to post-maintenance testing of containment isolation valves (CIVs). Surveillance requirements are not initiators of accidents; consequently, the proposed change does not significantly increase the probability of an accident previously evaluated. The proposed change does not alter the requirements regarding operability of CIVs, and appropriate testing will continue to confirm the operability of these valves following maintenance activities. The CIVs will continue to be tested in a manner and at a frequency that demonstrates they remain capable of performing their intended safety function. As a result, the proposed amendment does not significantly affect the consequences of an accident previously evaluated. Therefore, the proposed change does not involve a significant increase in the probability or consequences of an accident previously evaluated.

2. The proposed changes do not create the possibility of a new or different kind of accident from any previously evaluated.

The proposed change does not introduce any new accident scenarios, failure mechanisms, or single failures. The change does not add new equipment to the plant, does not modify or remove existing equipment, and does not significantly change the operation of the plant. The ability of any operable equipment to perform its specified safety function is unaffected by this change. Therefore, the proposed change does not create the possibility of a new or different kind of accident from any previously evaluated.

3. The proposed changes do not involve a significant reduction in the margin of safety.

The proposed change does not alter the initial conditions or results of any accident analyses. The operability requirements, performance, and design of the CIVs are unchanged with this proposed change. The CIVs will continue to meet the design bases for the containment isolation system as described in the Seabrook Station [updated final safety analysis report]. The proposed amendment will minimize unnecessary testing of CIVs. Therefore, the proposed change does not involve a significant reduction in the margin of safety.

The NRC staff has reviewed the licensee's analysis, and based on this review, it appears that the three standards of 50.92(c) are satisfied. Therefore, the NRC staff proposes to determine that the amendment request involves no significant hazards consideration.

Attorney for licensee: M. S. Ross, Florida Power & Light Company, P.O. Box 14000, Juno Beach, FL 33408-0420.

NRC Branch Chief: H. Chernoff.

GPU Nuclear, Inc., Docket No. 50-320, Three Mile Island Nuclear Station, Unit 2, Dauphin County, Pennsylvania

Date of amendment request: June 11, 2008.

Description of amendment request: The amendment application proposes to delete Technical Specification (TS) 6.5, “Review and Audit.” Specifically, the proposed change would delete TS 6.5.1, “Technical Review and Control” and TS 6.5.3, “Audits,” which will be implemented by the current and proposed changes to the GPU Nuclear Post-Defueling Monitored Storage Quality Assurance Plan for Three Mile Island Unit 2 (PDMS QAP). The proposed change would also delete TS 6.5.2, “Independent Safety Review Function,” with no replacement.

Basis for proposed no significant hazards consideration determination: As required by 10 CFR 50.91(a), the licensee has provided its analysis of the issue of no significant hazards consideration, which is presented below:

1. Does the proposed amendment involve a significant increase in the probability or consequences of an accident previously evaluated? No.

No physical changes to the TMI-2 Facility will occur as a result of this proposed amendment. The proposed changes will not alter the physical design or operational procedures associated with any plant structure, system, or component. As such, the change is administrative in nature and does not affect initiators of analyzed events or assumed mitigation of accidents.

The proposed changes involve the deletion of several administrative requirements from the Technical Specifications (TS). The TS requirements involve Technical Review and Control and Audits that are now controlled under the TMI-2 Post Defueling Monitored Storage Quality Assurance Plan (PDMS QAP).

In accordance with the guidance provided in NRC Administrative Letter 95-06, “Relocation of Technical Specification Administrative Controls related to Quality Assurance,” the proposed changes are an acceptable method for removing technical specification quality assurance requirements.

Therefore, the proposed changes do not involve a significant increase in the probability or consequences of an accident previously evaluated.

2. Does the proposed amendment create the possibility of a new or different kind of accident from any accident previously evaluated? No.

The proposed changes are administrative in nature. The proposed changes do not alter the physical design, safety limits, or safety analysis assumptions associated with the operation of the plant. Accordingly, the changes do not introduce any new accident initiators, nor do they reduce or adversely affect the capabilities of any plant structure, system, or component to perform their safety function.

Therefore, the proposed changes do not create the possibility of a new or different kind of accident from any accident previously evaluated.

3. Does the proposed amendment involve a significant reduction in a margin of safety? No.

The proposed changes conform to NRC regulatory guidance regarding the content of plant Technical Specifications. The guidance is presented in Administrative Letter 95-06 and NUREG-1430. The relocation of these administrative requirements to the PDMS QAP will not reduce the quality assurance commitments as accepted by the NRC, nor reduce administrative controls essential to the safe operation of the plant. Future changes to these administrative requirements will be performed in accordance with NRC regulation 10 CFR 50.54(a), consistent with the guidance identified above. Accordingly, the replacement of TS requirements by existing proposed TMI-2 PDMS QAP requirements results in an equivalent level of regulatory control.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

NRC Branch Chief: Andrew Persinko.

Tennessee Valley Authority, Docket Nos. 50-259, 50-260, and 50-296, Browns Ferry Nuclear Plant, Units 1, 2, and 3, Limestone County, Alabama

Date of amendment request: March 27, 2008.

Description of amendment request: The proposed amendment would revise the Technical Specification (TS) requirements related to control building envelope habitability in TS Section 3.7.3 Control Room Emergency Ventilation (CREV) System, and add TS Section 5.5.13, Control Building Envelope Habitability Program, to the Administrative Section of the TSs. The licensee has included conforming technical changes to the TS Bases. The proposed revision to the Bases also includes editorial and administrative changes to reflect applicable changes to the corresponding TS Bases, which were made to improve clarity, conform with the latest information and references, correct factual errors, and achieve more consistency with the standard TS NUREGs. The proposed revision to the TSs and associated Bases is similar to TS Task Force Traveler No. TSTF-448, Revision 3. However the references to chemical and smoke hazards are not included in the proposed revision to TS Section 3.7.3, TS Section 5.5.13 and TS Bases 3.7.3, as the CREV System was not designed to protect the control room envelope (CRE) occupants from these hazards and no toxic gas detectors are provided to initiate a CRE isolation.

Basis for proposed no significant hazards consideration determination: As required by 10 CFR 50.91(a), the licensee has provided its analysis of the issue of no significant hazards consideration (NSHC) through incorporation by reference of the NSHC determination published in the Federal Register Notice dated January 17, 2007 (73 FR 2022), which is presented below:

1. Does the proposed Technical Specification change involve a significant increase in the probability or consequences of an accident previously evaluated?

No. The proposed change does not adversely affect accident initiators or precursors nor alter the design assumptions, conditions, or configuration of the facility. The proposed change does not alter or prevent the ability of structures, systems, and components (SSCs) to perform their intended function to mitigate the consequences of an initiating event within the assumed acceptance limits. The proposed change revises the TS for the CRE emergency ventilation system, which is a mitigation system designed to minimize unfiltered air leakage into the CRE and to filter the CRE atmosphere to protect the CRE occupants in the event of accidents previously analyzed. An important part of the CRE emergency ventilation system is the CRE boundary. The CRE emergency ventilation system is not an initiator or precursor to any accident previously evaluated. Therefore, the probability of any accident previously evaluated is not increased. Performing tests to verify the operability of the CRE boundary and implementing a program to assess and maintain CRE habitability ensure that the CRE emergency ventilation system is capable of adequately mitigating radiological consequences to CRE occupants during accident conditions, and that the CRE emergency ventilation system will perform as assumed in the consequence analyses of design basis accidents. Thus, the consequences of any accident previously evaluated are not increased. Therefore, the proposed change does not involve a significant increase in the probability or consequences of an accident previously evaluated.

2. Does the proposed Technical Specification change create the possibility of a new or different kind of accident from any accident previously evaluated?

No. The proposed change does not impact the accident analysis. The proposed change does not alter the required mitigation capability of the CRE emergency ventilation system, or its functioning during accident conditions as assumed in the licensing basis analyses of design basis accident radiological consequences to CRE occupants. No new or different accidents result from performing the new surveillance or following the new program. The proposed change does not involve a physical alteration of the plant (i.e., no new or different type of equipment will be installed) or a significant change in the methods governing normal plant operation. The proposed change does not alter any safety analysis assumptions and is consistent with current plant operating practice. Therefore, this change does not create the possibility of a new or different kind of accident from any accident previously evaluated.

3. Does the proposed Technical Specification change involve a significant reduction in a margin of safety?

The proposed change does not alter the manner in which safety limits, limiting safety system settings or limiting conditions for operation are determined. The proposed change does not affect safety analysis acceptance criteria. The proposed change will not result in plant operation in a configuration outside the design basis for an unacceptable period of time without compensatory measures. The proposed change does not adversely affect systems that respond to safely shut down the plant and to maintain the plant in a safe shutdown condition. Therefore, the proposed change does not involve a significant reduction in a margin of safety.

Based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Branch Chief: Thomas H. Boyce.

Wolf Creek Nuclear Operating Corporation, Docket No. 50-482, Wolf Creek Generating Station, Coffey County, Kansas

Date of amendment request: July 10, 2008.

Description of amendment request: The proposed amendment would revise the Technical Specification (TS) requirements consistent with the Technical Specification Task Force (TSTF) Standard Technical Specification Change Traveler, TSTF-419, Revision 0, “Revise PTLR [Pressure and Temperature Limits Report] Definition and References in ISTS [Improved Standard TS] 5.6.6, RCS [Reactor Coolant System] PTLR.” The proposed change would reference only the Topical Report (TR) number and title in TS 5.6.6, “Reactor Coolant System (RCS) PRESSURE AND TEMPERATURE LIMITS REPORT (PTLR).” This would allow the use of currently approved TRs to determine the pressure and temperature limits in the PTLR without having to submit an amendment to the Operating License. The change would not alter (1) the U.S. Nuclear Regulatory Commission (NRC) reviewed and approved analytical methods used to determine the pressure and temperature limits or Low Temperature Overpressure Protection (LTOP) System setpoints, or (2) the requirement to use NRC-approved analytical methods to determine the limits or setpoints.

Basis for proposed no significant hazards consideration determination: As required by 10 CFR 50.91(a), the licensee has provided its analysis of the issue of no significant hazards consideration (NSHC), which is presented below:

1. Does the proposed amendment involve a significant increase in the probability or consequences of an accident previously evaluated?

Response: No.

The proposed changes to reference the Topical Report number and title do not alter the use of the analytical methods used to determine the P/T [pressure/temperature] limits or LTOP System setpoints that have been reviewed and approved by the NRC. This method of referencing Topical Reports would allow the use of current [NRC-approved] Topical Reports to support limits in the PTLR without having to submit an amendment to the Operating License. Implementation of revisions to Topical Reports would still receive regulatory reviews and where required receive NRC review and approval. The proposed changes to add “LTOP arming” into TS 5.6.6a. as a RCS pressure and temperature limit established and documented in the PTLR and deletion of “and Cold Overpressure Mitigation System” from TS 5.6.6b are administrative changes for consistency. The proposed changes do not adversely affect accident initiators or precursors nor alter the design assumptions, conditions, or configuration of the facility or the manner in which the plant is operated and maintained. The proposed changes do not alter or prevent the ability of structures, systems, and components (SSCs) from performing their intended function to mitigate the consequences of an initiating event within the assumed acceptance limits. The proposed changes do not affect the source term, containment isolation, or radiological release assumptions used in evaluating the radiological consequences of an accident previously evaluated. Further, the proposed changes do not increase the types or amounts of radioactive effluent that may be released offsite, nor significantly increase individual or cumulative occupational/public radiation exposures. The proposed changes are consistent with safety analysis assumptions and resultant consequences. Therefore, the proposed changes do not involve a significant increase in the probability or consequences of an accident previously evaluated.

2. Does the proposed amendment create the possibility of a new or different kind of accident from any accident previously evaluated?

Response: No.

The proposed changes to reference the Topical Report number and title do not alter the use of the analytical methods used to determine the P/T limits or LTOP System setpoints that have been reviewed and approved by the NRC. This method of referencing Topical Reports would allow the use of current [NRC-approved] Topical Reports to support limits in the PTLR without having to submit an amendment to the Operating License. Implementation of revisions to Topical Reports would still receive regulatory reviews and where required receive NRC review and approval. The proposed changes to add “LTOP arming” into TS 5.6.6a. as a RCS pressure and temperature limit established and documented in the PTLR and deletion of “and Cold Overpressure Mitigation System” from TS 5.6.6b are administrative changes for consistency. The changes do not involve a physical alteration of the plant (i.e., no new or different type of equipment will be installed) or a change in the methods governing normal plant operation. In addition, the changes do not impose any new or different requirements or eliminate any existing requirements [except that NRC-approved TRs can be used without an amendment]. The changes do not alter assumptions made in the safety analysis. The proposed changes are consistent with the safety analysis assumptions and current plant operating practice. Therefore, the proposed change does not create the possibility of a new or different kind of accident from any previously evaluated.

3. Does the proposed amendment involve a significant reduction in the margin of safety?

Response: No.

The proposed changes to reference the Topical Report number and title do not alter the use of the analytical methods used to determine the P/T limits or LTOP System setpoints that have been reviewed and approved by the NRC. This method of referencing Topical Reports would allow the use of current Topical Reports to support limits in the PTLR without having to submit an amendment to the Operating License. Implementation of revisions to Topical Reports would still receive regulatory reviews and where required receive NRC review and approval. The proposed changes to add “LTOP arming” into TS 5.6.6a. as a RCS pressure and temperature limit established and documented in the PTLR and deletion of “and Cold Overpressure Mitigation System” from TS 5.6.6b are administrative changes for consistency. The proposed changes do not alter the manner in which safety limits, limiting safety system settings or limiting conditions for operation are determined. The setpoints at which protective actions are initiated are not altered by the proposed changes. Sufficient equipment remains available to actuate upon demand for the purpose of mitigating an analyzed event. Therefore, it is concluded that this change does not involve a significant reduction in the margin of safety.

The NRC staff has reviewed the licensee's analysis and, based on this review, it appears that the three standards of 10 CFR 50.92(c) are satisfied. Therefore, the NRC staff proposes to determine that the amendment request involves NSHC.

Attorney for licensee: Jay Silberg, Esq., Pillsbury Winthrop Shaw Pittman LLP, 2300 N Street, NW., Washington, DC 20037.

NRC Branch Chief (Acting): Jack N. Donohew.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for a Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Calvert Cliffs Nuclear Power Plant, Inc., Docket Nos. 50-317 and 50-318, Calvert Cliffs Nuclear Power Plant, Unit Nos. 1 and 2, Calvert County, Maryland

Date of application for amendments: June 29, 2007, as supplemented by letters dated March 12 and June 11, 2008.

Brief description of amendments: The amendments modify Technical Specification (TS) 3.7.8, “Control Room Emergency Ventilation System (CREVS),” and introduce TS 5.5.17, “Control Room Envelope Habitability Program,” consistent with Technical Specification Task Force-448, Revision 3, “Control Room Habitability.”

Date of issuance: July 29, 2008.

Effective date: These license amendments are effective as of the date of its issuance and shall be implemented within 60 days following completion of the installation and testing of the plant modifications described in Amendment Nos. 281 and 258 issued on August 29, 2007.

Amendment Nos.: 287, 264.

Renewed Facility Operating License Nos. DPR-53 and DPR-69: Amendments revised the License and Technical Specifications.

Date of initial notice in Federal Register: August 14, 2007 (72 FR 45456)

The letters dated March 12 and June 11, 2008, provided additional information that clarified the application, did not expand the scope of the application as originally noticed, and did not change the staff's original proposed no significant hazards consideration determination as published in the Federal Register.

The Commission's related evaluation of these amendments is contained in a Safety Evaluation dated July 29, 2008.

No significant hazards consideration comments received: No.

Carolina Power & Light Company, Docket Nos. 50-325 and 50-324, Brunswick Steam Electric Plant, Units 1 and 2, Brunswick County, North Carolina

Date of application for amendments: July 17, 2007, as supplemented by letters February 27 and July 9, 2008.

Brief Description of amendments: The amendments revise Brunswick Steam Electric Plant (BSEP), Units 1 and 2 technical specifications (TS) to adopt NRC-approved industry Technical Specifications Task Force (TSTF) standard TS change traveler, TSTF-448, Revision 3, “Control Room Habitability.” This technical specification change was made available by the U.S. Nuclear Regulatory Commission on January 17, 2007 (72 FR 2022) as part of the consolidated line item improvement process. The amendments modify the BSEP technical specification requirements regarding control room envelope habitability in TS 3.7.3, “Control Room Emergency Ventilation (CREV) System,” and TS Section 5.5, “Programs and Manuals.”

Date of issuance: July 25, 2008.

Effective date: Date of issuance, to be implemented within 180 days.

Amendment Nos. 248 and 276.

Facility Operating License Nos. DPR-71 and DPR-62: Amendments change the technical specifications and add a license condition.

Date of initial notice in Federal Register: (73 FR 29161). The supplemental letters dated February 27 and July 9, 2008, provided additional information that clarified the application, did not expand the scope of the application as originally noticed, and did not change the staff's original proposed no significant hazards consideration determination as published in the Federal Register.

The Commission's related evaluation of the amendments is contained in a Safety Evaluation dated July 25, 2008.

No significant hazards consideration comments received: No.

Dominion Nuclear Connecticut, Inc., Docket Nos. 50-336 and 50-423, Millstone Power Station, Unit Nos. 2 and 3, New London County, Connecticut

Date of application for amendment: July 2, 2007, as supplemented on May 5, 2008.

Brief description of amendment: The amendment modifies the Technical Specification (TS) 4.0.5 to reference the American Society of Mechanical Engineers (ASME) Code of Operation and Maintenance of Nuclear Power Plants (OM Code) instead of Section XI of the ASME Boiler and Pressure Vessel Code. Specifically the amendment updates the inservice testing (IST) of ASME Code Class 1, 2, and 3 pumps and valves to reflect the requirements in the ASME OM Code. The amendment also extends the TS Surveillance Requirement 4.0.2 25 percent time extension to other normal and accelerated frequencies specified as 2 years or less in the IST program. In addition, the ISI requirement in TS 4.0.5 is being removed and the reference to the ISI requirement is being updated in the snubbers' TS surveillance frequency.

Date of issuance: July 31, 2008.

Effective date: As of the date of issuance and shall be implemented within 180 days from the date of issuance.

Amendment No.: 304 and 241.

Renewed Facility Operating License Nos. DPR-65 and NPF-49: Amendment revised the License and Technical Specifications.

Date of initial notice in Federal Register: December 4, 2007 (72 FR 68210) The supplement dated May 5, 2008, clarified the application, did not expand the scope of the application as originally noticed, and did not change the initial proposed no significant hazards consideration determination.

The Commission's related evaluation of the amendment is contained in a Safety Evaluation dated July 31, 2008.

No significant hazards consideration comments received: No.

Duke Power Company LLC, et al., Docket Nos. 50-413 and 50-414, Catawba Nuclear Station, Units 1 and 2, York County, South Carolina

Date of application for amendments: July 30, 2007, as supplement May 27, 2008, and June 23, 2008.

Brief description of amendments: The amendments revised the Technical Specifications to allow single supply header operation of the buried nuclear service water (RN) system piping for up to 30 days only during preplanned maintenance of the buried RN system piping.

Date of issuance: July 30, 2008.

Effective date: As of the date of issuance and shall be implemented within 30 days from the date of issuance.

Amendment Nos.: 243 and 237.

Facility Operating License Nos. NPF-35 and NPF-52: Amendments revised the licenses and the technical specifications.

Date of initial notice in Federal Register: February 26, 2008 (73 FR 10296) The supplements dated May 27, 2008, and June 23, 2008, provided additional information that clarified the application, did not expand the scope of the application as originally noticed, and did not change the staff(s original proposed no significant hazards consideration determination. The Commission's related evaluation of the amendments is contained in a Safety Evaluation dated July 30, 2008.

No significant hazards consideration comments received: No.

Entergy Nuclear Operations, Inc., Docket No. 50-333, James A. FitzPatrick Nuclear Power Plant, Oswego County, New York

Date of application for amendment: February 7, 2008.

Brief description of amendment: The amendment revises the Technical Specifications (TSs) associated with the Surveillance Requirement frequency in TS 3.1.3, “Control Rod OPERABILITY,” consistent with Revision 1 to the TS Task Force (TSTF) Standard Technical Specification Change Document TSTF-475, “Control Rod Notch Testing Frequency and SRM [source range monitor] Insert Control Rod Action” (NUREG-1433).

Date of issuance: August 7, 2008.

Effective date: As of the date of issuance, and shall be implemented within 30 days.

Amendment No.: 291.

Facility Operating License No. DPR-59: The amendment revised the License and the Technical Specifications.

Date of initial notice in Federal Register: April 2, 2008 (73 FR 18008). The Commission's related evaluation of the amendment is contained in a Safety Evaluation dated August 7, 2008.

No significant hazards consideration comments received: No.

Entergy Operations, Inc., Docket No. 50-382, Waterford Steam Electric Station, Unit 3, St. Charles Parish, Louisiana

Date of amendment request: July 3, 2007.

Brief description of amendment: The change relocates the quality and quantity requirements associated with the emergency diesel generator fuel oil within the Technical Specifications (TS) through the creation of a new TS Limiting Condition for Operation and the Diesel Fuel Oil Testing Program. In addition, two surveillance requirements associated with periodic draining, cleaning and visual inspection of the fuel oil storage tanks are deleted.

Date of issuance: July 30, 2008.

Effective date: As of the date of issuance and shall be implemented within 60 days from the date of issuance.

Amendment No.: 216.

Facility Operating License No. NPF-38: The amendment revised the Facility Operating License and Technical Specifications.

Date of initial notice in Federal Register: July 31, 2007 (72 FR 41782). The Commission's related evaluation of the amendment is contained in a Safety Evaluation dated July 30, 2008.

No significant hazards consideration comments received: No.

Exelon Generation Company, LLC, Docket Nos. STN 50-456 and STN 50-457, Braidwood Station, Units 1 and 2, Will County, Illinois

Exelon Generation Company, LLC, Docket Nos. STN 50-454 and STN 50-455, Byron Station, Unit Nos. 1 and 2, Ogle County, Illinois

Exelon Generation Company, LLC, Docket No. 50-461, Clinton Power Station, Unit No. 1, DeWitt County, Illinois

Exelon Generation Company, LLC, Docket Nos. 50-237 and 50-249, Dresden Nuclear Power Station, Units 2 and 3, Grundy County, Illinois

Exelon Generation Company, LLC,Docket Nos. 50-373 and 50-374, LaSalle County Station, Units 1 and 2, LaSalle County, Illinois

AmerGen Energy Company, LLC, et al., Docket No. 50-219, Oyster Creek Nuclear Generating Station, Ocean County, New Jersey

Exelon Generation Company, LLC, and PSEG Nuclear LLC, Docket Nos. 50-277 and 50-278, Peach Bottom Atomic Power Station, Units 2 and 3, York and Lancaster Counties, Pennsylvania

Exelon Generation Company, LLC, Docket Nos. 50-254 and 50-265, Quad Cities Nuclear Power Station, Units 1 and 2, Rock Island County, Illinois

AmerGen Energy Company, LLC, Docket No. 50-289, Three Mile Island Nuclear Station, Unit 1, Dauphin County, Pennsylvania

Date of application for amendment: July 19, 2007, as supplemented on July 7, 2008.

Brief description of amendment: The amendments will update the requirements in the Technical Specifications (TS) 5.3.1 “Facility Staff Qualifications,” or TS 6.3.1, “Unit Staff Qualifications,” that have been outdated based on licensed operator training programs accredited by the National Academy for Nuclear Training Academy Document, ACAD 00-003, Revision 1, dated April 2004, and the revised Title 10 of the Code of Federal Regulations, Part 55, “Operators' Licenses.”

Date of issuance: July 25, 2008.

Effective date: As of the date of issuance and shall be implemented within 60 days.

Amendment Nos.: 152, 152, 156, 156, 180, 228, 220, 189, 176, 265, 267, 271, 240, 235, 265.

Facility Operating License Nos. NPF-72, NPF-77, NPF-37 and NPF-66, NPF-62, DPR-19, DPR-25, NPF-11, NPF-18, DPR-16, DPR-55, DPR-56, DPR-29, DPR-30 and DPR-50: The amendments revised the Technical Specifications and License.

Date of initial notice in Federal Register: December 4, 2007 (72 FR 68214). The supplemental letter contained clarifying information, did not change the initial no significant hazards consideration determination, and did not expand the scope of the original Federal Register notice.

The Commission's related evaluation of the amendments is contained in a Safety Evaluation dated July 25, 2008.

No significant hazards consideration comments received: No.

Exelon Generation Company, LLC, Docket Nos. 50-352 and 50-353, Limerick Generating Station, Units 1 and 2, Montgomery County, Pennsylvania

Date of application for amendment: December 12, 2007, supplemented by letter dated June 11, 2008.

Brief description of amendment: The amendments consist of changes to the technical specifications of each unit regarding administrative issues involving: (1) Index corrections; (2) removing requirements or notes that are no longer applicable; (3) deleting references to previously deleted requirements; (4) changing references to the location of previously relocated information; and (5) editorial corrections.

Date of issuance: August 5, 2008.

Effective date: As of the date of issuance and shall be implemented within 60 days of issuance.

Amendment Nos.: 192 and 153.

Facility Operating License Nos. NPF-39 and NPF-85. These amendments revised the license and the technical specifications.

Date of initial notice in Federal Register: May 6, 2008 (73 FR 25040). The supplement dated June 11, 2008, provided additional information that clarified the application, did not expand the scope of the application as originally noticed, and did not change the staff's original proposed no significant hazards consideration determination. The Commission's related evaluation of the amendments is contained in a Safety Evaluation dated August 5, 2008.

No significant hazards consideration comments received: No.

Florida Power Corporation, et al., Docket No. 50-302, Crystal River Unit No. 3 Nuclear Generating Plant, Citrus County, Florida

Date of application for amendment: July 12, 2007, as supplemented by letters dated June 19 and July 29, 2008.

Brief description of amendment: The amendment revises the technical specifications to adopt Technical Specifications Task Force-448, Revision 3, “Control Room Habitability.” This technical specifications improvement was made available by the U.S. Nuclear Regulatory Commission (Commission) on January 17, 2007 (72 FR 2022), as part of the consolidated line item improvement process. The amendment also adds a license condition regarding initial performance of new surveillance and assessment requirements.

Date of issuance: July 30, 2008.

Effective date: Date of issuance, to be implemented within 180 days.

Amendment No.: 230.

Facility Operating License No. DPR-72: Amendment revises the technical specifications and adds a license condition.

Date of initial notice in Federal Register: May 20, 2008 (73 FR 29163). The supplements dated June 19 and July 29, 2008, provided additional information that clarified the application, did not expand the scope of the application as originally noticed, and did not change the staff's original proposed no significant hazards consideration determination as published in the Federal Register.

The Commission's related evaluation of the amendment is contained in a Safety Evaluation dated July 30, 2008.

No significant hazards consideration comments received:

FPL Energy Seabrook, LLC, Docket No. 50-443, Seabrook Station, Unit No. 1, Rockingham County, New Hampshire

Date of amendment request: July 17, 2007, as supplemented by letters dated October 15, 2007, and February 19, 2008.

Description of amendment request: The amendment revises the Seabrook Technical Specifications related to control room envelope habitability consistent with Technical Specification Task Force (TSTF) Traveler TSTF-448, Revision 3.

Date of issuance: July 30, 2008.

Effective date: As of its date of issuance, and shall be implemented within 6 months.

Amendment No.: 119.

Facility Operating License No. NPF-86: The amendment revised the License and Technical Specifications.

Date of initial notice in Federal Register: November 6, 2007 (72 FR 62689). The supplemental letters provided clarifying information within the scope of the original application and did not change the staff's initial proposed no significant hazards consideration determination dated November 6, 2007 (72 FR 62689). The Commission's related evaluation of the amendment is contained in a Safety Evaluation dated July 30, 2008.

No significant hazards consideration comments receives: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

The Commission is also offering an opportunity for a hearing with respect to the issuance of the amendment. Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

A request for hearing or a petition for leave to intervene must be filed in accordance with the NRC E-Filing rule, which the NRC promulgated in August 28, 2007 (72 FR 49139). The E-Filing process requires participants to submit and serve documents over the Internet or in some cases to mail copies on electronic storage media. Participants may not submit paper copies of their filings unless they seek a waiver in accordance with the procedures described below.

To comply with the procedural requirements of E-Filing, at least five (5) days prior to the filing deadline, the petitioner/requestor must contact the Office of the Secretary by e-mail at HEARINGDOCKET@NRC.GOV, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, the Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

Duke Power Company LLC, et al., Docket No. 50-413, Catawba Nuclear Station, Unit 1 York County, South Carolina

Date of amendment request: July 14, 2008 as supplemented July 14, 2008.

Description of amendment request: The amendment approved a one-time extension of the allowed outage time (AOT) for the 1B auxiliary feedwater system and the 1B containment spray system from 72 hours to a total of 9 days.

Date of issuance: July 15, 2008.

Effective date: July 15, 2008.

Amendment No.: 242.

Facility Operating License No. (NPF-35): Amendment revised the license.

Public comments requested as to proposed no significant hazards consideration (NSHC): No.

The Commission's related evaluation of the amendment, finding of emergency circumstances, state consultation, and final NSHC determination are contained in a safety evaluation dated July 15, 2008.

Attorney for licensee: Ms. Lisa F. Vaughn, Associate General Counsel and Managing Attorney, Duke Energy Carolinas, LLC, 526 South Church Street, EC07H, Charlotte, NC 28202.

NRC Branch Chief: Melanie C. Wong.

Dated at Rockville, Maryland, this 15th day of August, 2008.
For the Nuclear Regulatory Commission.
Robert A. Nelson,
Deputy Director, Division of Operating Reactor Licensing, Office of Nuclear Reactor Regulation.

[FR Doc. E8-19369 Filed 8-25-08; 8:45 am]

BILLING CODE 7590-01-P